DEPARTMENT OF JUSTICE

Antitrust Division

Notice Pursuant to the National Cooperative Research and Production Act of 1993—Portland Cement Association

Notice is hereby given that, on august 18, 2004, pursuant to section 6(a) of the National Cooperative Research and Production act of 1993, 15 U.S.C. 4301 et seq. (“the Act”), the Portland Cement Association has filed written notifications simultaneously with the Attorney General and the federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Portland Cement Association, Skokie, IL. The nature and scope of Portland Cement Association's standards development activities are for the design and construction of assemblies using cement, cement-based products, and associated products.

Additional information concerning the Portland Cement Association may be obtained from Stephen Szoke, P.E., Director, Codes and Standards, Portland Cement Association, 5420 Old Orchard Road, Skokie, IL 60077.

Dorothy B. Fountain,
Deputy Director of Operations, Antitrust Division.

[FR Doc. 04-22162 Filed 10-1-04; 8:45 am]

BILLING CODE 4410-11-M